DEPARTMENT OF HEALTH AND HUMAN SERVICES

Centers for Disease Control and Prevention

[RFA IP05-088]

Enhancing Utilization of Childhood Immunization Client Recall Practices by Private Providers; Notice of Availability of Funds—Amendment

A notice announcing the availability of fiscal year (FY) 2006 funds for a cooperative agreement for Enhancing Utilization of Childhood Immunization Client Recall Practices by Private Providers was published in the Federal Register, Wednesday, May 11, 2005, Volume 70, Number 90, pages 24807-24812.

The notice is amended as follows: Page 24807, first column, Letter of Intent Deadline, delete June 10, 2005, and replace with August 15, 2005. Page 24807, first column, Application Deadline, delete June 27, 2005, and replace with August 31, 2005. Page 24808, second column, Fiscal Year Funds, delete 2005, and replace with 2006. Page 24808, third column, Anticipated Award Date, delete August 31, 2005, and replace with November 30, 2005. Page 24809, second column, LOI Deadline Date, delete June 10, 2005, and replace with August 15, 2005. Page 24809, third column, Application Deadline Date, delete June 27, 2005, and replace with August 31, 2005. Page 24811, third column, Award Date, delete August 31, 2005, and replace with November 30, 2005.

Dated: June 2, 2005.
William P. Nichols,
Director, Procurement and Grants Office, Centers for Disease Control and Prevention.

[FR Doc. 05-11522 Filed 6-9-05; 8:45 am]

BILLING CODE 4163-18-P